DEPARTMENT OF THE INTERIOR

Bureau of Land Management

[OR-034-00-1040-DB: GPO-0254]

Notice of Intent To Prepare an Environmental Impact Statement (EIS) for the North Folk Malheur River Landscape Area Management Project in Malheur, Harney and Grant Counties, OR

AGENCY: Bureau of Land Management, DOI.

ACTION: Notice of intent to prepare an Environmental Impact Statement (EIS) on the North Fork River Landscape Area Management Project in Malheur, Harney and Grant Counties, Oregon and notice of scoping.

SUMMARY: Pursuant to section 102(2)(C) of the National Environmental Policy Act of 1969, the Bureau of Land Management, Vale District, Malheur Resource Area, will be preparing an EIS on the impacts of various management activities and associated projects in the North Fork Malheur River geographic area. Resource values and management activities include: livestock grazing, recreation, forest management, special status and Threatened and Endangered species, wildlife habitat, Wilderness Study Areas, Areas of Critical Environmental Concern, Wild and Scenic Study River, Native America concerns and cultural resources.

DATES: Written comments on the initial scoping process will be accepted until September 1, 2000. A public scoping meeting will be held from 7 to 9 p.m. on June 29, 2000 at the Juntura Grade School, W 6th Street, Juntura, Oregon. Additional meetings will be considered as appropriate.

SUPPLEMENTARY INFORMATION: The project area includes the drainages of the Little Malheur and North Fork Malheur Rivers. The area consists of approximately 126,000 acres of public lands located between Juntura and Ironside, Oregon. The southern boundary is U.S. Highway 20 between Jonesburo, Oregon and the Harney County line. The northwest boundary is the boundary between BLM lands and the Malheur National Forest. The Malheur Resource Area will be examining this area, assessing current management activities, developing recommendations for future management activities and analyzing the potential for projects. Projects may include, but are not limited to, range improvements, vegetation manipulation, recreational developments, forest health enhancement, watershed restoration and wildlife habitat enhancement. The no action alternative will also be analyzed in this document.

The Tentative Project Schedule Is as Follows:

File Draft EIS—February 2001,

File Final EIS—July 2001,

Record of Decision—September 2001.

The Bureau of Land Management's scoping process for the EIS will include:

(1) Identification of issues to be addressed,

(2) Identification of viable alternatives,

(3) Notifying interested groups, individual and agencies to determine level of participation and obtain additional information concerning issues to be addressed in the EIS.

ADDRESSES: Comments should be sent to Roy Masinton, Field Manager, Malheur Resource Area, Vale District, Bureau of Land Management, 100 Oregon Street, Vale, OR 97918.

FOR FURTHER INFORMATION CONTACT: Tom Dabbs, Bureau of Land Management, 100 Oregon Street, Vale, Oregon 97918, (541) 473-3144.

Roy L. Masinton,
Field Manager, Malheur Resource Area.

[FR Doc. 00-15807 Filed 6-21-00; 8:45 am]

BILLING CODE 4310-33-M